DEPARTMENT OF STATE

[Public Notice 4137]

Culturally Significant Objects Imported for Exhibition; Determinations: “Jan Miense Molenaer: Painter of the Dutch Golden Age”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the object to be included in the exhibition “Jan Miense Molenaer: Painter of the Dutch Golden Age,” imported from abroad for temporary exhibition within the United States, is of cultural significance. The objects are imported pursuant to a loan agreement with the foreign owners. I also determine that the exhibition or display of the exhibit objects at the North Carolina Museum of Art, Raleigh, North Carolina from on or about October 13, 2002 to on or about January 5, 2003, the Indianapolis Museum of Art—Columbus Gallery, Columbus, Indiana from on or about January 25, 2003 to on or about March 16, 2003, and the Currier Gallery of Art, Manchester, New Hampshire from on or about March 30, 2003 to on or about June 17, 2003, and at possible additional venues yet to be determined, is in the national interest. Public Notice of these Determinations is ordered to be published in the Federal Register.

FOR FURTHER INFORMATION CONTACT: For further information, contact Julianne Simpson, Attorney-Adviser, Office of the Legal Adviser, U.S. Department of State, (telephone: 202/619-6529). The address is U.S. Department of State, SA-44, 301 4th Street, SW., Room 700, Washington, DC 20547-0001.

Dated: September 16, 2002.
Patricia S. Harrison,
Assistant Secretary for Educational and Cultural Affairs, Department of State.

[FR Doc. 02-24367 Filed 9-24-02; 8:45 am]

BILLING CODE 4710-08-P